DEPARTMENT OF LABOR

Employment and Training Administration

[TA-W-62,978]

Gil-Mar Manufacturing Company, Canton, MI; Notice of Termination of Investigation

Pursuant to Section 221 of the Trade Act of 1974, as amended, an investigation was initiated on March 10, 2008 in response to a petition filed by a company official on behalf of workers of Gil-Mar Manufacturing Company, Canton, Michigan.

The petitioner has requested that the petition be withdrawn. Consequently, further investigation would serve no purpose and the investigation has been terminated.

Signed at Washington, DC, this 8th day of May 2008.
Linda G. Poole,
Certifying Officer, Division of Trade Adjustment Assistance.

[FR Doc. E8-10884 Filed 5-14-08; 8:45 am]

BILLING CODE 4510-FN-P